DEPARTMENT OF THE INTERIOR

Bureau of Land Management

[OR-930-08-5410-FR; OR 65263; HAG-08-0084)]

Application for Conveyance of Federal Mineral Interests, Harney County, Oregon

AGENCY: Bureau of Land Management (BLM).

ACTION: Notice of Realty Action.

SUMMARY: The surface owner of the land described in this notice, containing approximately 200 acres, has filed an application for the purchase of the federally-owned mineral interest. Publication of this notice temporarily segregates the mineral interest from appropriation under the public land laws, including the mining laws.

DATES: Interested persons may submit written comments only to the Bureau of Land Management (BLM) at the address stated below. Comments must be received no later than May 22, 2008.

ADDRESSES: Bureau of Land Management, P.O. Box 2965, Portland, Oregon 97208. Detailed information concerning this action is available for review at the above address.

FOR FURTHER INFORMATION CONTACT: Jenny Liang, Land Law Examiner, at the above address, or at (503) 808-6299.

SUPPLEMENTARY INFORMATION: The surface owner of the following described land has filed an application pursuant to Section 209 of the Federal Land Policy and Management Act of 1976, 43 U.S.C. 1719(b), for the purchase and conveyance of the Federally-owned mineral interest in the following described land:

Willamette Meridian

T. 19 S., R. 25 E.,

Sec. 28, NE¼SE¼ and S½S½.

The area described contains 200 acres, more or less, in Harney County, Oregon.

Effective immediately, BLM will process the pending application in accordance with the regulations stated in 43 CFR part 2720. Written comments concerning the application must be received no later than the date specified above in this notice for that purpose.

The purpose for a purchase and conveyance is to allow consolidation of surface and subsurface minerals ownership where (1) there are no known mineral values, or (2) in those instances where the Federal mineral interest reservation interferes with or precludes appropriate non-mineral development and such development is a more beneficial use of the land than the mineral development.

Upon publication of this notice in the Federal Register, the mineral interest described above will be segregated to the extent that they will not be subject to appropriation under the public land laws, including the mining laws. The segregative effect of the application shall terminate upon issuance of a patent or deed to such mineral interests; or upon final rejection of the application, or two years from the date of filing of the application whichever comes first.

Comments: Comments, including names, street address, and other contact information of respondents will be available for public review. Before including your address, phone number, e-mail address, or other personal identifying information in your comment, you should be aware that your entire comment—including your personal identifying information—may be made publicly available at any time. While you can ask us in your comment to withhold your personal identifying information from public review, we cannot guarantee that we will be able to do so. All persons who wish to present comments, suggestions, or objections in connection with the pending application may do so by writing to Fred O'Ferrall, Chief, Branch of Lands and Mineral Resources, at the above mentioned address. No verbal, electronic or facsimile comments will be accepted.

Authority: 43 CFR 2720.1-1 (b).

Dated: March 27, 2008.
Fred O'Ferrall,
Chief, Branch of Lands and Mineral Resources.

[FR Doc. E8-7161 Filed 4-4-08; 8:45 am]

BILLING CODE 4310-33-P